DEPARTMENT OF COMMERCE

National Oceanic and Atmospheric Administration

Agency Information Collection Activities; Submission to the Office of Management and Budget (OMB) for Review and Approval; Comment Request; Aleutian Islands Pollock Fishery Requirements

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 8, 2021 (86 FR 30443), during a 60-day comment period. This notice allows for an additional 30 days for public comments.

Agency: National Oceanic and Atmospheric Administration (NOAA), Commerce.

Title: Aleutian Islands Pollock Fishery Requirements.

OMB Control Number: 0648-0513.

Form Number(s): None.

Type of Request: Regular submission (extension of a current information collection).

Number of Respondents: 1.

Average Hours per Response: 16 hrs.

Total Annual Burden Hours: 16 hrs.

Needs and Uses: The National Marine Fisheries Service (NMFS), Alaska Regional Office, is requesting renewal of a currently approved information collection that contains the requirements for the annual participant letter for the Aleutian Islands pollock fishery.

Amendment 82 to the Fishery Management Plan for Groundfish of the Bering Sea and Aleutian Islands Management Area (FMP) established a framework for the management of the Aleutian Islands subarea (AI) directed pollock fishery. The Aleut Corporation receives an annual AI pollock allocation for the purpose of economic development in Adak, Alaska. The Aleut Corporation is identified in Public Law 108-199 as a business incorporated pursuant to the Alaska Native Claims Settlement Act (43 U.S.C. 1601 et seq.). Regulations implementing the FMP appear at 50 CFR part 679.

The Aleut Corporation's AI pollock fishery is set up so that harvesting pollock in the AI directed pollock fishery and processing pollock taken in the AI directed pollock fishery are authorized only for those harvesters and processors that are selected by The Aleut Corporation and approved by the NMFS Regional Administrator.

Each year and at least 14 days before harvesting pollock or processing pollock in the AI directed pollock fishery, The Aleut Corporation must submit its selections to NMFS. The information submitted by The Aleut Corporation consists of the names of the harvesting vessels and processors it has selected, the Federal fisheries permit numbers or Federal processor permit numbers of the participants, and the fishing year for which approval is requested.

On approval, NMFS sends The Aleut Corporation a letter that includes a list of the approved participants. A copy of this letter must be retained on board each participating vessel and on site each shoreside processor at all times.

This information collection is necessary for NMFS to obtain the list of vessels and processors selected by The Aleut Corporation to harvest and process its annual AI pollock allocation. The Aleut Corporation is required by Federal regulations at 50 CFR 679.4(m)(2) to provide its selected harvesters and processors to NMFS for approval. Without this information, NMFS would not know the participants selected by The Aleut Corporation and harvest rates could not be determined, which may result in allocations being exceeded.

Affected Public: Business or other for-profit organizations.

Frequency: Annually.

Respondent's Obligation: Required to Obtain or Retain Benefits.

Legal Authority: Consolidated Appropriations Act of 2004; Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0513.

Sheleen Dumas,
Department PRA Clearance Officer, Office of the Chief Information Officer, Commerce Department.

[FR Doc. 2021-20991 Filed 9-27-21; 8:45 am]

BILLING CODE 3510-22-P